DEPARTMENT OF ENERGY

Federal Energy Regulatory Commission

Combined Notice of Filings #1

Take notice that the Commission received the following electric rate filings:

Docket Numbers: ER19-1507-003.

Applicants: Duke Energy Carolinas, LLC.

Description: Compliance filing: Joint OATT LGIP—Order 845 Deficiency Letter Response to be effective 5/22/2019.

Filed Date: 7/12/19.

Accession Number: 20190712-5046.

Comments Due: 5 p.m. ET 8/2/19.

Docket Numbers: ER19-1869-000; ER19-1870-000; ER19-1871-000; ER19-1866-000; ER19-1865-000; ER19-1868-000; ER19-1867-000; ER19-1872-000.

Applicants: Orrtanna Power, LLC, Blossburg Power, LLC, Hamilton Power, LLC, Hunterstown Power, LLC, Niles Power, LLC, Shawnee Power, LLC, Titus Power, LLC, Tolna Power, LLC.

Description: Supplement to May 15, 2019 Orrtanna Power, LLC, et al. tariff filings, et al.

Filed Date: 7/9/19.

Accession Number: 20190709-5129.

Comments Due: 5 p.m. ET 7/19/19.

Docket Numbers: ER19-2386-000.

Applicants: Delmarva Power & Light Company, PJM Interconnection, L.L.C.

Description: § 205(d) Rate Filing: Delmarva Power submits a Construction Agreement, Service Agreement No. 5424 to be effective 6/5/2019.

Filed Date: 7/11/19.

Accession Number: 20190711-5118.

Comments Due: 5 p.m. ET 8/1/19.

Docket Numbers: ER19-2387-000.

Applicants: New England Power Pool Participants Committee, ISO New England Inc.

Description: § 205(d) Rate Filing: Viridity Energy Termination to be effective 9/10/2019.

Filed Date: 7/11/19.

Accession Number: 20190711-5134.

Comments Due: 5 p.m. ET 8/1/19.

Docket Numbers: ER19-2388-000.

Applicants: Marcus Hook 50, L.P.

Description: Tariff Cancellation: Tariff cancellation to be effective 7/12/2019.

Filed Date: 7/12/19.

Accession Number: 20190712-5027.

Comments Due: 5 p.m. ET 8/2/19.

Take notice that the Commission received the following electric securities filings:

Docket Numbers: ES19-37-000.

Applicants: Montana-Dakota Utilities Co.

Description: Application under Section 204 of the Federal Power Act for Authorization to Issue Securities of Montana-Dakota Utilities Co.

Filed Date: 7/11/19.

Accession Number: 20190711-5164.

Comments Due: 5 p.m. ET 8/1/19.

Take notice that the Commission received the following PURPA 210(m)(3) filings:

Docket Numbers: QM19-3-000.

Applicants: Prairie Power, Inc.

Description: Application of Prairie Power, Inc. to Terminate Mandatory PURPA Purchase Obligation.

Filed Date: 7/11/19.

Accession Number: 20190711-5149.

Comments Due: 5 p.m. ET 8/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2019.
Nathaniel J. Davis, Sr.,
Deputy Secretary.

[FR Doc. 2019-15377 Filed 7-18-19; 8:45 am]

BILLING CODE 6717-01-P